JUDICIAL CONFERENCE OF THE UNITED STATES

Meeting of the Judicial Conference Committee on Rules of Practice and Procedure

AGENCY: Judicial Conference of the United States, Committee on Rules of Practice and Procedure.

ACTION: Notice of open meeting.

SUMMARY: The Committee on Rules of Practice and Procedure will hold a two-day meeting. The meeting will be open to public observation but not participation. An agenda and supporting materials will be posted at least 7 days in advance of the meeting at: http://www.uscourts.gov/rules-policies/records-and-archives-rules-committees/agenda-books.

DATES: January 7-8, 2016.

Time: 8:00 a.m. to 5:00 p.m.

ADDRESSES: Royal Palms Hotel, 5200 East Camelback Road, Phoenix, Arizona 85018.

FOR FURTHER INFORMATION CONTACT: Rebecca A. Womeldorf, Rules Committee Secretary, Rules Committee Support Office, Administrative Office of the United States Courts, Washington, DC 20544, telephone (202) 502-1820.

Dated: November 24, 2015.
Rebecca A. Womeldorf,
Rules Committee Secretary.

[FR Doc. 2015-30345 Filed 11-30-15; 8:45 am]

BILLING CODE 2210-55-P